NATIONAL SCIENCE FOUNDATION

Agency Information Collection Activities: Comment Request

AGENCY: National Science Foundation.

ACTION: Submission for OMB review; comment request.

SUMMARY: Under the Paperwork Reduction Act of 1995, Public Law 104-13 (44 U.S.C. 3501 et seq.), and as part of its continuing effort to reduce paperwork and respondent burden, the National Science Foundation (NSF) is inviting the general public and other Federal agencies to comment on this proposed continuing information collection. This is the second notice for public comment; the first was published in the Federal Register at 66 FR 57114 and no comments were received. NSF is forwarding the proposed submission to the Office of Management and Budget (OMB) for clearance simultaneously with the publication of this second notice.

DATES: Comments regarding these information collections are best assured of having their full effect if received by OMB within 30 days of publication in the Federal Register.

ADDRESSES: Written comments regarding (a) whether the collection of information is necessary for the proper performance of the functions of NSF, including whether the information will have practical utility; (b) the accuracy of NSF's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725 17th Street, NW. Room 10235, Washington DC 20503, and to Suzanne H. Plimpton, Reports Clearance Officer, National Science Foundation, 4201 Wilson Boulevard, Suite 295, Arlington, Virginia 22230 or send email to splimpto@nsf.gov. Copies if the submission may be obtained by calling (703) 292-7556.

FOR FURTHER INFORMATION CONTACT: Suzanne H. Plimpton, NSF Reports Clearance Officer at (703) 292-7556 or send email to splimpto@nsf.gov.

An agency may not contact or sponsor a collection of information unless the collection of information displays a currently valid OMB control number and the agency informs potential persons who are to respond to the collection of information that such persons are not required to respond to the collection of information unless it displays a currently valid OMB control number.

SUPPLEMENTARY INFORMATION: Title of Collection: Evaluation of the Impact and Use of the National Institutes of Health Curriculum Supplements on Students' Scientific Knowledge.

OMB Control No.: 3145-NEW.

1. Abstract

The National Science Foundation (NSF) has provided funding for systematically developed, research-based curriculum materials beginning in the 1960s. NSF has the responsibility of coordinating evaluations of mathematics and science education programs across government, including agencies such as the National Institutes of Health (NIH). Since its establishment as part of NIH, the Office of Science Education (OSE) has engaged in the development of science curriculum supplements and other educational materials related to medicine and research. NSF and NIH will partner in this evaluation because both desire information on the effectiveness of curriculum materials and the effective means to collect this information. Over the years, there have been changes in the levels of funding for such instructional materials, reflecting changes in public support and concerns for such endeavors. However, concerns about student achievement in science have focused attention on the need for strong curriculum materials to support “systemic reform” (O'Day & Smith, 1993). NSF has responded to these needs by increasing support to research-based instructional materials that have been reviewed by content experts and found to be of high quality and meet the demands of the National Science Education Standards (NSES).

The proposed evaluation's study questions to be addressed are: Do the curriculum supplements promote better science education? Do the curriculum supplements reduce academic inequity? Do the curriculum supplements deepen students' understanding of the importance of basic research to advances in medicine and health? Do the curriculum supplements foster student analysis of the direct and indirect effects of scientific discoveries on their individual and public health? Do the curriculum supplements encourage students to take more responsibility for their own health?

The data to address these questions will be gathered using mixed methods. In addition to assessing student achievement data and using surveys, the mixed-methods evaluation model will include pre-observation questionnaires, observations, and interviews of teachers. Interviews and observations, for example, will enable research evaluators to clarify vague responses in surveys or confirm findings. As part of the evaluation, pre- and post-assessment will be used for NIH Curriculum Supplement Series for Grades 9-12 to compare students' learning of scientific concepts and skills when a supplement of NIH materials will be used, with students who do not receive the NIH materials. Teacher and student surveys, interviews, site visits, document reviews, standardized performance measures, and student work samples will provide the basis for comparison.

2. Expected Respondents

The expected respondents and observation subjects are pre-college teachers and students.

3. Burden on the Public

The total annual burden hours for this collection are 6,952 for a maximum of 6,132 respondents, assuming an 80-100% response rate. The burden on the general public is small because the study is limited to a 10 percent random sample of the 12,000 teachers who have requested the materials being studied, a sample of impacted students, and 60 treatment and 60 comparison teachers.

Dated: May 28, 2002.
Suzanne H. Plimpton,
Reports Clearance Officer, National Science Foundation.

[FR Doc. 02-13775 Filed 5-31-02; 8:45 am]

BILLING CODE 7555-01-M